DEPARTMENT OF ENERGY

Federal Energy Regulatory Commission

[Docket No. AD24-7-000]

Federal and State Current Issues Collaborative; Notice of Meeting and Agenda

As first announced in the Commission's January 14, 2026 Notice in this docket,¹ the fourth public meeting of the Federal and State Current Issues Collaborative (Collaborative) will be held on Wednesday, February 11, 2026, from approximately 1:00 p.m. to 3:30 p.m. EST, at the Potomac Ballroom in the Westin DC Downtown hotel in Washington, DC Commissioners may attend and participate in this meeting. Attached to this Notice is an agenda for the meeting.

¹ Fed. and State Current Issues Collaborative, Notice Announcing Meeting, Docket No. AD24-7-000 (issued Jan. 14, 2026).

The purpose of this meeting is to discuss how affordability considerations are being addressed at the state and regional levels as load growth and transmission expansion accelerate in response to rapid AI and other demand growth. Commissioners do not intend to discuss at this meeting any specific proceeding before the Commission, including proceedings that involve similar issues. A non-exhaustive list of these proceedings can be found in the Appendix to this Notice.

The meeting will be open to the public for listening and observing and will be on the record. There is no fee for attendance and registration is not required. The public may attend in person or via Webcast.² This meeting will be transcribed. Transcripts will be available for a fee from Ace Reporting, 202-347-3700.

² A link to the Webcast will be available here on the day of the event: https://www.ferc.gov/federal-state-current-issues-collaborative.

Commission meetings are accessible under section 508 of the Rehabilitation Act of 1973. For accessibility accommodations, please send an email to accessibility@ferc.gov or call toll free 1-866-208-3372 (voice) or 202-208-8659 (TTY), or send a fax to 202-208-2106 with the required accommodations.

More information about the Collaborative is available here: https://www.ferc.gov/federal-state-current-issues-collaborative. For questions related to the Collaborative, please contact: Robert Thormeyer, 202-502-8694, robert.thormeyer@ferc.gov, Joseph Popely, 202-502-8513, joseph.popely@ferc.gov, Zoe Philippides, 202-502-8826, zoe.philippides@ferc.gov, or Kimberly Duffley, 202-898-1305, kduffley@naruc.org.

* * *Agenda not attached* * *

Dated: January 28, 2026.
Debbie-Anne A. Reese,
Secretary.

[FR Doc. 2026-02032 Filed 1-30-26; 8:45 am]

BILLING CODE 6717-01-P